DEPARTMENT OF EDUCATION

[Docket No. ED-2020-SCC-0122]

Agency Information Collection Activities; Comment Request; Higher Education Emergency Relief Fund (HEERF) Data Collection Form

AGENCY: Office of Postsecondary Education (OPE), Department of Education (ED).

ACTION: Notice.

SUMMARY: In accordance with the Paperwork Reduction Act of 1995, ED is proposing a new information collection.

DATES: Interested persons are invited to submit comments on or before September 28, 2020.

ADDRESSES: To access and review all the documents related to the information collection listed in this notice, please use http://www.regulations.gov by searching the Docket ID number ED-2020-SCC-0122. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance, Governance and Strategy Division, U.S. Department of Education, 400 Maryland Ave. SW, LBJ, Room 6W208D, Washington, DC 20202-8240.

FOR FURTHER INFORMATION CONTACT: For specific questions related to collection activities, please contact Beatriz Ceja, 202-377-3711, or email heerf@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR)6239 that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Higher Education Emergency Relief Fund (HEERF) Data Collection Form.

OMB Control Number: 1840-NEW.

Type of Review: A new information collection.

Respondents/Affected Public: State, Local and Tribal Organizations; Private Sector.

Total Estimated Number of Annual Responses: 5,170.

Total Estimated Number of Annual Burden Hours: 7,756.

Abstract: This information collection supports the annual collection of data pertaining to the uses of funds under the Higher Education Emergency Education Relief Fund (HEER Fund). Section 18004(a) of the CARES Act, Public Law 116-136 (March 27, 2020), authorized the Secretary of Education to allocate formula grant funds to participating institutions of higher education (IHEs). Section 18004(c) of the CARES Act allows IHEs to use up to one-half of the total funds received to cover any costs associated with the significant changes to the delivery of instruction due to the coronavirus (with specific exceptions). This information collection request includes the reporting requirements in order to comply with the requirements of the CARES Act and obtain information on how the funds were used. The information will be reviewed by U.S. Department of Education (Department) employees to ensure that HEER funds are used in accordance with section 18004 of the CARES Act, and will be shared with the public to promote transparency regarding the allocation and uses of funds.

HEER Reporting Requirements: Data collected through this information collection will inform Department monitoring and oversight, and public reporting and is in addition to reporting already required under the Federal Funding Accountability and Transparency Act of 2006 (FFATA), Public Law 109—282, as amended by the Digital Accountability and Transparency Act (DATA Act), Public Law 113—101.

HEER Reporting Timeframe: The anticipated reporting periods and associated deadlines for this information collection are as follows:

The First Annual Report is due on January 29, 2021 and applies to the reporting period from March 13, 2020 through June 30, 2020. The Second Annual Report is due on September 30, 2021 and applies to the reporting period from July 1, 2020 through June 30, 2021. The Third Annual Report is due on September 20, 2022 and applies to the reporting period from July 1, 2021 through June 30, 2022.

Directed Questions: The Department requests input from data submitters and stakeholders on the following directed questions. Please note that in addition to these questions, public comments are encouraged on all of the changes proposed. While these questions are directed to IHE data submitters, comments from all stakeholders on these topics are welcome.

(1) What data in this form will be difficult to collect or report and why? Are there changes that could be made to improve the quality of the data or reduce the burden?

(2) The Department believes the data requested under this collection will be valuable for multiple purposes, such as measuring program performance and informing future program design. The Department is interested in learning the extent to which others, particularly stakeholders at the State and local level, agree that this data is valuable for their own purposes and whether there is additional data that would be valuable for the Department to collect from its grantees?

(3) The Department is interested in reducing the burden of data collection and making use of existing data when at all possible. For example, are there alternative methods to collect data or data that is already collected on institutional expenditures related to HEER funding under section 18004a of the CARES Act?

(4) Will the proposed method for collecting the number of FTE positions created or retained as a result of HEER funds awarded to IHEs yield accurate data? Is there an alternative methodology that would improve the accuracy of the data?

Dated: July 24, 2020.
Kate Mullan,
PRA Coordinator, Strategic Collections and Clearance, Governance and Strategy Division, Office of Chief Data Officer, Office of Planning, Evaluation and Policy Development.

[FR Doc. 2020-16429 Filed 7-28-20; 8:45 am]

BILLING CODE 4000-01-P